DEPARTMENT OF HOUSING AND URBAN DEVELOPMENT

[Docket No. FR-5037-N-67 ]

Notice of Submission of Proposed Information Collection to OMB; Emergency Comment Request Servicemembers Civil Relief Notice

AGENCY: Office of the Assistant Secretary for Housing—Federal Housing Commissioner, HUD.

ACTION: Notice of proposed information collection.

SUMMARY: The proposed information collection requirement described below has been submitted to the Office of Management and Budget (OMB) for emergency review and approval, as required by the Paperwork Reduction Act. The Department is soliciting public comments on the subject proposal.

DATES: Comments Due Date: October 6, 2006.

ADDRESSES: Interested persons are invited to submit comments regarding this proposal. Comments must be received within fourteen (14) days from the date of this Notice. Comments should refer to the proposal by name and should be sent to: HUD Desk Officer, Office of Management and Regulatory Affairs, Office of Management and Budget, New Executive Office Building, Washington, DC 20503.

FOR FURTHER INFORMATION CONTACT: Lillian L. Deitzer, Departmental Reports Management Officer, QDAM, Department of Housing and Urban Development, 451 Seventh Street, SW., Washington, DC 20410; e-mail Lillian_L_Deitzer@HUD.gov; telephone (202) 708-2374. This is not a toll-free number. Copies of available documents submitted to OMB may be obtained from Ms. Deitzer.

SUPPLEMENTARY INFORMATION: This Notice informs the public that the U.S. Department of Housing and Urban Development (HUD) has submitted to OMB, for emergency processing, a proposed information collection requirement as described below. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Servicemembers Civil Relief Notice.

Description of Information Collection: The proposed information collection is intended to provide a statement or notice to homeowners in default explaining the mortgage and foreclosure rights of servicemembers and their dependents under the Servicemembers Civil Relief Act (50 U.S.C. App. §§ 501-596), including the toll-free military one source number to call if servicemembers, or their dependents require further assistance. This notification is required under section 106(c)(5)(A)(ii) of the Housing and Urban Development Act (12 U.S.C. 1701x(c)(5)(A)(ii)) as amended by Section 688 of the National Defense Authorization Act for fiscal year 2006 (Pub. L. 109-163, enacted January 06, 2006) and must be made within 45 days from the date the missed payment was due unless the homeowner pays the overdue amount before the expiration of the 45-day period. All mortgage loans, including conventional mortgages and mortgages insured by HUD are subject to this notification requirement.

OMB Control Number: To be assigned.

Agency Form Numbers: HUD form 92070.

Members of Affected Public: Business or other for-profit.

Estimation of the total numbers of hours needed to prepare the information collection including number of respondents, frequency of responses, and hours of response: The estimated number of burden hours needed to prepare the information collection is 533,744; the number of respondents is 7,747 generating approximately 2,113,195 annual responses (form HUD 92070); the frequency of response is once per loan default, and the estimated time needed to prepare the responses is 15 minutes.

Status: Proposed new collection.

Authority: The Paperwork Reduction Act of 1995, 44 U.S.C. Chapter 35, as amended.

Dated: September 19, 2006.
Lillian L. Deitzer,
Departmental Reports Management Officer, Office of the Chief Information Officer.

[FR Doc. 06-8116 Filed 9-21-06; 8:45 am]

BILLING CODE 4210-67-P